FEDERAL COMMUNICATIONS COMMISSION

Notice of Public Information Collection(s) Being Reviewed by the Federal Communications Commission, Comments Requested

December 27, 2010.

SUMMARY: The Federal Communications Commission, as part of its continuing effort to reduce paperwork burden invites the general public and other Federal agencies to take this opportunity to comment on the following information collection(s), as required by the Paperwork Reduction Act (PRA) of 1995, 44 U.S.C. 3501-3520. Comments are requested concerning: (a) Whether the proposed collection of information is necessary for the proper performance of the functions of the Commission, including whether the information shall have practical utility; (b) the accuracy of the Commission's burden estimates; (c) ways to enhance the quality, utility, and clarity of the information collected; (d) ways to minimize the burden of the collection of information on the respondents, including the use of automated collection techniques or other forms of information technology; and (e) ways to further reduce the information collection burden on small business concerns with fewer than 25 employees.

The FCC may not conduct or sponsor a collection of information unless it displays a currently valid OMB control number. No person shall be subject to any penalty for failing to comply with a collection of information subject to the Paperwork Reduction Act (PRA) that does not display a valid OMB control number.

DATES: Written Paperwork Reduction Act (PRA) comments should be submitted on or before March 14, 2011. If you anticipate that you will be submitting PRA comments, but find it difficult to do so within the period of time allowed by this notice, you should advise the FCC contact listed below as soon as possible.

ADDRESSES: Direct all PRA comments to the Federal Communications Commission. To submit your PRA comments by e-mail send them to: PRA@fcc.gov.

FOR FURTHER INFORMATION CONTACT: For additional information, contact Judith B. Herman at 202-418-0214 or via the Internet at Judith-B.Herman@fcc.gov.

SUPPLEMENTARY INFORMATION: OMB Control Number: 3060-0767.

Title: Sections 1.2110, 1.2111, and 1.2112, Auction Forms and License Transfer Disclosure Requirements.

Form No.: N/A.

Type of Review: Extension of a currently approved collection.

Respondents: Business or other for-profit, not-for-profit institutions, and state, local or tribal government.

Number of Respondents: 22,000 respondents; 22,000 responses.

Estimated Time per Response: 17.6 hours (average).

Frequency of Response: On occasion reporting requirement, recordkeeping requirement and third party disclosure requirement.

Obligation to Respond: Required to obtain or retain benefits. Statutory authority for this information collection is contained in 47 U.S.C. sections 154(i) and 309(j).

Total Annual Burden: 390,750 hours.

Total Annual Cost: $23,966,750.

Privacy Act Impact Assessment: Yes.

Nature and Extent of Confidentiality: In general, there is no need for confidentiality. Applicants may seek confidential treatment of their information or material under 47 CFR 0.459 of the Commission's rules.

Needs and Uses: The Commission will submit this expiring information collection to the Office of Management and Budget (OMB) after this 60 day comment period in order to obtain the full three year clearance from them. The Commission is requesting OMB approval for an extension (no change in the reporting, recordkeeping and/or third party disclosure requirements). There is no change in the Commission's burden estimates.

Disclosures regarding ownership and gross revenues information and calculations are designed to ensure that applicants are qualified to participate in Commission auctions and to ensure that license winners are entitled to receive small business preferences. Disclosures regarding joint bidding agreements and the associated certification are designed to prevent collusion. Disclosure of information regarding license transfers and partitioning is designed to deter unjust enrichment. Finally, records retention and maintenance by small business licensees is designed to prevent unjust enrichment and facilitate enforcement efforts, if necessary.

OMB Control Number: 3060-0262.

Title: Section 90.179, Shared Use of Radio Stations.

Form No.: N/A.

Type of Review: Extension of a currently approved collection.

Respondents: Business or other for-profit, not-for-profit institutions, and State, local or tribal government.

Number of Respondents: 42,000 respondents; 42,000 responses.

Estimated Time per Response: 15 minutes for records maintenance; and 45 minutes for preparation of sharing agreements; 1 hour total.

Frequency of Response: On occasion reporting requirement, recordkeeping requirement and third party disclosure requirement.

Obligation to Respond: Required to obtain or retain benefits. Statutory authority for this information collection is contained in 47 U.S.C. sections 154(i), 161, 303(g), 303(r), and 332(c)(7).

Total Annual Burden: 42,000 hours.

Total Annual Cost: N/A.

Privacy Act Impact Assessment: N/A.

Nature and Extent of Confidentiality: There is no need for confidentiality.

Needs and Uses: The Commission will submit this expiring information collection to the Office of Management and Budget (OMB) after this 60 day comment period in order to obtain the full three year clearance from them. The Commission is requesting OMB approval for an extension (no change in the reporting, recordkeeping and/or third party disclosure requirements). There is no change in the Commission's burden estimates.

The Commission was directed by the United States Congress, in the Balanced Budget act of 1997, to dedicate 2.4 MHz of electromagnetic spectrum in the 746-806 MHz band for public safety services. Section 90.179 requires that Part 90 licensees that share use of their private land mobile radio facility on a non-profit, cost-sharing basis keep a written agreement as part of the station records. Regardless of the method of sharing, an up-to-date list of persons who are sharing the station and the basis of their eligibility under Part 90 must be maintained. The requirement is necessary to identify users of the system should interference problems develop. This information is used by the Commission to investigate interference complaints and resolve interference and operational complaints that may arise among the users.

OMB Control Number: 3060-0774.

Title: Parts 36, and 54, Universal Service Reporting, Disclosure and Records Retention Requirements.

Form No.: N/A.

Type of Review: Extension of a currently approved collection.

Respondents: Business or other for-profit, not-for-profit institutions, and state, local or tribal government.

Number of Respondents: 7,060,500 respondents; 7,631,034 responses.

Estimated Time per Response: .084 hours to 125 hours.

Frequency of Response: On occasion, annual, quarterly and five year reporting requirements, recordkeeping requirements and third party disclosure requirements.

Obligation to Respond: Required to obtain or retain benefits. Statutory authority for this information collection is contained in 47 U.S.C. sections 151-154, 201-205, 214, 218-220, 254, 303(r), 403, and 410.

Total Annual Burden: 1,279,455 hours.

Total Annual Cost: N/A.

Privacy Act Impact Assessment: N/A.

Nature and Extent of Confidentiality: The Commission is not requesting that respondents submit confidential information to the Commission. If the Commission requests applicants to submit information that the respondents believe is confidential, respondents may request confidential treatment of such information under 47 CFR 0.459 of the Commission's rules.

Needs and Uses: The Commission will submit this expiring information collection to the Office of Management and Budget (OMB) after this 60 day comment period in order to obtain the three year clearance from them. The Commission is requesting OMB approval for an extension (no change in the reporting, recordkeeping and/or third party disclosure requirements). There is no change in the Commission's previous burden estimates.

The Telecommunications Act of 1996 (1996 Act) directed the Commission to initiate a rulemaking to reform the system of universal service so that universal service is preserved and advanced as markets move toward competition. To fulfill that mandate, on March 9, 1996, the Commission adopted a Notice of Proposed Rulemaking (NPRM) in CC Docket No. 96-45 to implement the congressional directives set out in section 254 of the Communications Act of 1934, as amended by the 1996 Act. Pursuant to section 254(a)(1), the NPRM also referred numerous issues related to universal service to a Federal-State Joint Board for a recommended decision.

On November 8, 1996, the Joint Board released a Recommended Decision in which it made recommendations to assist and counsel the Commission in the creation of an effective universal service support mechanism that would ensure that the goals of affordable, quality service and access to advanced services are met by means that enhance competition.

On November 18, 1996, the Commission's Common Carrier Bureau (now the Wireline Competition Bureau) released a Public Notice (DA 96-1891) seeking public comment on the issues addressed and recommendations made by the Joint Board in the Recommended Decision. In a Report and Order issued in CC Docket No. 96-45, released on May 8, 1997, and other proceedings, the Commission adopted rules that were designed to implement the universal service provisions of section 254.

On August 29, 2007, the Commission released the Report and Order, 2007 Comprehensive Review of the Universal Service Fund Management, Administration and Oversight, WC Docket Nos. 05-192, 02-60, 03-109, and CC Docket Nos. 96-45, 02-6, 97-21, FCC 07-150. In this Order, the Commission took several further steps to safeguard the universal service fund from waste, fraud and abuse, including imposing document retention rules on all universal service programs and program contributors.

Federal Communications Commission.
Marlene H. Dortch,
Secretary.

[FR Doc. 2011-554 Filed 1-12-11; 8:45 am]

BILLING CODE 6712-01-P